INSTITUTE OF PEACE

Board of Directors Meeting

AGENCY: United States Institute of Peace.

ACTION: Notice.

SUMMARY:

Board of Directors Meeting

Date/Time: Friday, January 24, 2014 (9:30 a.m.-2:00 p.m.)

Location: 2301 Constitution Avenue NW Washington, DC 20037.

Status: Open Session—Portions may be closed pursuant to Subsection (c) of Section 552(b) of Title 5, United States Code, as provided in subsection 1706(h)(3) of the United States Institute of Peace Act, Public Law 98-525.

Agenda: January 24, 2014 Board Meeting; Approval of Minutes of the One Hundred Forty-Ninth Meeting (October 25, 2013) of the Board of Directors; Chairman's Report; President's Report; Status Reports; Program Updates; Other General Issues; Board Executive Session.

Contact: Peter Loge, Vice President for External Relations, Telephone: (202) 429-3882.

Dated: January 8, 2014.

FOR FURTHER INFORMATION CONTACT: Peter Loge, Vice President for External Relations, Telephone: (202) 429-3882.

Dated: January 8, 2014.
Peter Loge,
Vice President for External Relations.

[FR Doc. 2014-00360 Filed 1-13-14; 8:45 am]

BILLING CODE 6820-AR-M